DEPARTMENT OF HOMELAND SECURITY

U.S. Customs and Border Protection

Voluntary Self-Reported Exit (VSRE) Pilot

AGENCY: U.S. Customs and Border Protection, DHS.

ACTION: General notice.

SUMMARY: This notice announces that U.S. Customs and Border Protection (CBP) will conduct a Voluntary Self-Reported Exit (VSRE) Pilot to collect facial images from certain aliens, specifically aliens subject to Form I-94 (Arrival/Departure Record) requirements, exiting the United States from any location. CBP will conduct the VSRE Pilot to determine the effectiveness of this technology as part of CBP's initiatives to create a comprehensive biometrics entry-exit system, as well as to further automate the I-94 process for these aliens. This notice describes the purpose of the pilot, pilot procedures, how CBP will use the collected data, eligible participants, duration of the pilot, how CBP will analyze the results, and privacy considerations.

DATES: This voluntary pilot will begin on March 19, 2025 and will run for two years. Any extensions of this pilot program will be announced by a notice published in the Federal Register.

ADDRESSES: Written comments concerning the VSRE Pilot program and technical issues may be submitted at any time during the pilot period via email to cbpone@cbp.dhs.gov. Please use “Comment on VSRE Pilot” in the subject line of the email.

FOR FURTHER INFORMATION CONTACT: Tricia Kennedy, Program Manager, Innovation Center, Innovation and Strategy Directorate, Office of Field Operations, U.S. Customs and Border Protection, (202) 999-7564, or Tricia.Kennedy@cbp.dhs.gov.

SUPPLEMENTARY INFORMATION:

Background

Legal Authority

The Department of Homeland Security (DHS) has broad authority to control alien travel and to inspect aliens under various provisions of the Immigration and Nationality Act (INA).¹ Numerous federal statutes require DHS to create an integrated, automated biometric entry-exit system that records the arrival and departure of aliens, compares the biometric data of aliens to verify their identity, and authenticates travel documents presented by such aliens through the comparison of biometrics.² Biometrics denotes any physical characteristic or other physical attribute unique to a person that can be used to verify the identity of an individual.³ This notice applies specifically to biometric facial images.

¹ DHS may generally require aliens to provide biometrics and other relevant identifying information upon entry to, or departure from, the United States. Specifically, DHS may control alien entry and departure and inspect aliens under sections 215(a) and 235 of the INA (8 U.S.C. 1185, 1225). As part of its entry and departure controls, DHS may require aliens to provide fingerprints, photographs, or other biometrics upon arrival in, or departure from, the United States, and select classes of aliens may be required to provide information at any time. See, e.g., INA 214, 215(a), 235, 262(a), 263(a), 264(c) (8 U.S.C. 1184, 1185(a), 1225, 1302(a), 1303(a), 1304(c)); 8 U.S.C. 1365b. Pursuant to Executive Order 13323, the Secretary of DHS was assigned the functions of the President under section 215(a) of the INA.

² The federal statutes and orders requiring DHS to create a biometric entry-exit system to record the arrival and departure of aliens include, but are not limited to: Section 110 of the Illegal Immigration Reform and Immigrant Responsibility Act of 1996 (IIRIRA), Public Law 104-828, 110 Stat. 3009-546, 3009-558; section 2(a) of the Immigration and Naturalization Service Data Management Improvement Act of 2000 (DMIA), Public Law 106-215, 114 Stat. 337, 338; section 205 of the Visa Waiver Permanent Program Act of 2000, Public Law 106-396, 114 Stat. 1637, 1641; section 414 of the Uniting and Strengthening America by Providing Appropriate Tools Required to Intercept and Obstruct Terrorism Act of 2001 (USA PATRIOT Act), Public Law 107-56, 115 Stat. 272, 353; section 302 of the Enhanced Border Security and Visa Entry Reform Act of 2002 (Border Security Act), Public Law 107-173, 116 Stat. 543, 552; section 7208 of the Intelligence Reform and Terrorism Prevention Act of 2004 (IRTPA), Public Law 108-458, 118 Stat. 3638, 3817; section 711 of the Implementing Recommendations of the 9/11 Commission Act of 2007 (Implementing Recommendations of the 9/11 Commission Act), Public Law 110-53, 121 Stat. 266, 338; and section 802 of the Trade Facilitation and Trade Enforcement Act of 2015, Public Law 114-125, 130 Stat. 122, 199 (6 U.S.C. 211(c)(10)).

³ See The National Biometrics Challenge, National Science and Technology Council Subcommittee on Biometrics and Identity Management, September 2011, available https://obamawhitehouse.archives.gov/sites/default/files/microsites/ostp/biometricschallenge2011.pdf

Various authorities authorize CBP to collect biographic data regarding all travelers entering and departing the United States. See, e.g., INA 211, 215, 231 (8 U.S.C. 1181, 1185, 1221), and Tariff Act of 1930, as amended, 71 Public Law 361, sec 433, 46 Stat. 590, 711 (19 U.S.C. 1433). One way that CBP collects this information is through the Form I-94 process (also described as simply “I-94”) discussed below, which CBP requires for certain aliens unless otherwise exempted.⁴ Biographic information collected as part of the I-94 process includes, for example, name, date of birth, passport number, passport country of issuance and other personal identifying information.

⁴ For purposes of the INA, a “nonimmigrant” generally describes any non-U.S. citizen who falls within one of the classes of aliens listed in section 101(a)(15) or section 214(e)(1) of the INA, which includes, among others, aliens who are visiting the United States for business or pleasure, ambassadors to the United States, aliens transiting through the United States, and other classes of aliens who do not intend to immigrate to the United States. INA 101(a)(15) (8 U.S.C. 1101(a)(15)). Certain nonimmigrants are exempt from the I-94 process. See 8 CFR 235.1(h)(1).

Further, DHS regulations authorize CBP to collect biometric data from certain aliens seeking admission to the United States. See 8 CFR 215.8. DHS regulations also authorize CBP to collect biometrics from certain aliens upon departure from the United States under pilot programs at land ports and up to 15 air and seaports. See 8 CFR 215.8.⁵

⁵ While CBP may collect biometrics from most aliens pursuant to the regulations, certain categories of aliens are exempt from the collection of biometrics upon entering or departing the United States. See 8 CFR 215.8(a)(1)-(2) and 8 CFR 235.1(f)(1)(ii), (iv).

Current Processes

Since 2004, CBP has been collecting biometric data from certain aliens arriving in the United States, including taking fingerprints and facial images from certain aliens as part of the I-94 entry process. Currently, CBP issues electronic I-94 forms to all arriving aliens who are legally required to submit that form (unless otherwise exempted) who are admitted or paroled into the United States as evidence of the terms of that person's admission or parole. See 8 CFR 1.4, 235.1(h). Form I-94 is issued at the time the alien is admitted or paroled at a United States port of entry. See 8 CFR 235.1(h). CBP encourages aliens to report their departure to CBP when they exit, so that CBP can record their exit from the United States.

Although CBP routinely collects biometric data from aliens entering the United States, there currently is no comprehensive system in place to collect biometrics from aliens departing the country. Collecting biometrics of certain aliens at both arrival and departure would enable CBP and DHS to have more accurate information regarding whether aliens have departed the country when they are required to depart as well as provide more accurate entry/exit data for such aliens. Further, collecting biometric data will help to reduce visa and travel document fraud and improve CBP's ability to identify criminals and known or suspected terrorists. CBP has been testing various options to collect biometrics at departure in the land and air environments since 2004.⁶

⁶ CBP has conducted numerous tests of facial recognition technology at various ports of entry across the United States. The results of those tests have shown a biometric matching accuracy rate of 98 percent. See DHS Fiscal Year 2022 Entry/Exit Overstay Report, https://www.dhs.gov/sites/default/files/2023-07/23_0707_FY22_FY23_CBP_Integrated_Entry_Exit_Overstay_Report.pdf (last visited Mar. 27, 2024).

At the same time, CBP is also now working to fully automate all I-94 processes. CBP has already automated the I-94 process for air and sea travel with a commercial carrier, such as an airline or cruise ship. CBP obtains the I-94 entry and exit information from the carrier and automatically records that entry and exit information in CBP systems.⁷ CBP has also automated the I-94 process for arrival at land border ports of entry.⁸ CBP is still in the process of automating the I-94 process on exit at land border ports of entry. CBP issues electronic I-94 forms to certain aliens entering the United States at air, sea, and land border ports of entry. CBP also collects fingerprints or facial image biometrics from travelers subject to I-94 requirements when the traveler arrives in the United States.

⁷ 8 CFR 1.4 defines I-94 to include collection of arrival/departure and admissions or parole information by DHS. This includes electronic information provided by the carrier and recorded in CBP systems. See 8 CFR 1.4.

⁸ See Streamlining I-94 Issuance at the Land Border, 87 FR 15446 (March 18, 2022).

As noted above, CBP creates exit records for persons traveling on commercial air or sea carriers using the biographic information provided by the carrier's manifest information as well as carrier-collected biometric information, when available. When exiting the United States at a land border, aliens subject to I-94 requirements are encouraged to report their departure to CBP, so that the agency can record their exit from the United States. If such travelers do not report their departure to CBP, their departure may not be properly recorded, and accordingly, it may appear that such travelers have overstayed their authorized stay. See 8 CFR 235.1(h).

At land ports of entry, CBP does not routinely staff exit lanes nor does CBP have a single process for aliens subject to I-94 requirements to voluntarily report their departure from the United States. Such travelers can currently report their departure by any one of the following means: (1) stopping at a land border port of entry and presenting a printed copy of their electronic I-94 form to a CBP officer; (2) stopping at a land border port of entry and placing a printed copy of their electronic I-94 form in a drop box provided by the port, where available; or (3), if exiting by land on the northern U.S. border, by turning in a printed copy of their electronic I-94 form to the Canadian Border Services Agency (CBSA) when entering Canada (CBSA will then return the form to CBP).⁹

⁹ For additional information, please see CBP's I-94 website, https://i94.cbp.dhs.gov/I94/#/home (last visited March 3, 2025).

The current options in the land environment can be burdensome and, in many cases, impractical or inconvenient due to the location and design of the ports. They also lead to haphazard record keeping and incomplete data collection with respect to travelers leaving the country. Most land border ports of entry provide limited access to the port for vehicles exiting the United States and have minimal parking available to the public. For this reason, most aliens do not report their departure when exiting at land border ports of entry. In those cases, CBP does not collect a record at the time the alien departs the United States.¹⁰ CBP often discovers that an alien has previously left the United States when that same alien attempts to re-enter the United States at a later date. Additionally, CBP generally does not collect biometrics from aliens exiting at land borders, even when an alien properly returns a paper I-94 form.

¹⁰ CBP may receive proof of departure information at a later date in some cases such as through records provided by CBSA or through mailed forms sent in by the traveler. However, even in these cases, the information can be delayed or inaccurate and CBP has no way to verify the information.

Captains of pleasure boats are not required to report information regarding persons on the boat to CBP upon departure from the United States. Pilots of private aircraft are required to submit a manifest, but there is limited opportunity to capture travelers' biometrics. Both pleasure boats and private aircraft are permitted to depart the United States from any location, including private property, therefore most of these exits are not reported to CBP.

If successful and implemented on a broader scale, the VSRE Pilot procedures would allow CBP to automate the I-94 process for aliens exiting at land borders and via private conveyances in the air and sea environments and create a biometrically confirmed exit record for those aliens exiting the United States.¹¹ In addition, there are some occasions where travelers exiting the United States via commercial air or sea may prefer to have proof of their exit on their hand-held device as it would provide an added sense of confidence for some travelers to personally maintain their own records regarding proof of their exit even though CBP obtains proof of exit in these cases from the carriers through required manifest information as well as, in some cases, biometric identity confirmation.

¹¹ While CBP's primary motivation for the VSRE process is the gap in exit information for certain modes of travel, this process can be used for this purpose by aliens subject to I-94 requirements regardless of mode of travel. If CBP decides to implement the VSRE process on a broader scale permanently, CBP will publish a notice in the Federal Register announcing such implementation.

Voluntary Self-Reported Exit Pilot

Overview and Purpose

The VSRE Pilot is a voluntary pilot to collect facial images through a mobile application on personal electronic devices from aliens who are subject to I-94 requirements and who are departing the United States.¹² This pilot will help CBP evaluate both: (1) the technology's user-friendliness; and (2) the technology's vulnerabilities with regard to “liveness detection” (whether the technology can correctly determine if the photo taken by the user is a live photo as opposed to a previously uploaded photo) and geolocation (whether the technology can correctly determine whether a person is at least three miles outside of the United States at the time the photo is taken and the exit information is submitted to CBP).¹³ The ability to detect liveness and geolocation are crucial to the success of this technology because both factors are needed to confirm that the person claiming to have exited the United States is physically outside of the United States.

¹² While CBP's primary motivation for this pilot is the lack of records at land exit, CBP makes this app available for use with any exit from the U.S. from any location.

¹³ Geolocation is only captured while the CBP Home app is in use for reporting exit.

This pilot will be one of CBP's critical efforts toward fulfilling DHS's mandate to collect biometric information from departing aliens and CBP's plans to fully automate I-94 information collection. The technology tested during this VSRE Pilot, if successful, will allow CBP to close the information gap on alien entries and exits by making it easier for aliens, specifically aliens subject to I-94 requirements, to report their exit to CBP after their departure from the United States. It will also create a biometrically confirmed, and therefore more accurate, exit record for such aliens leaving the United States.

Pilot Procedures

In this pilot, eligible participants are certain aliens subject to I-94 requirements as described below who may voluntarily submit their facial images using the CBP Home Mobile Application, or any successor mobile application, (CBP Home app) to report their exit from the United States. The CBP Home app is a platform application that can be downloaded and used to access numerous CBP virtual services, which include performing I-94 mobile functions.¹⁴

¹⁴ The CBP Home app is a mobile application that can be used for many different CBP functions, including but not limited to applying for a provisional I-94 prior to arrival at a land border port of entry, and, in the case of this pilot, self-reporting an exit for I-94 purposes. For more general information on the CBP Home app, see CBP, CBP Home Mobile Application, https://www.cbp.gov/about/mobile-apps-directory/cbpone (last visited October 22, 2024). For more information on use of the CBP Home app specifically for this pilot, CBP is issuing a Privacy Impact Assessment for the I-94 Mobile Application (the PIA) concurrently with this notice, available at https://www.dhs.gov/privacy-documents-us-customs-and-border-protection.

Participants will use the CBP Home app to provide biographic information from their passport or other travel document (or provide their alien registration number) after exiting the United States. Participants will then use the CBP Home app to take a “selfie” picture after exiting the United States. The CBP Home app will use geolocation services to confirm that the participant is outside the United States, as well as “liveness detection” software to determine that the selfie photo is a live photo, as opposed to a previously uploaded photo. The CBP Home app will then compare the facial image submitted to facial images for that person already retained by CBP in order to confirm the exit biometrically.

CBP will provide information to qualified aliens that explains how to participate in this pilot upon their entry to the United States. Only aliens who are subject to I-94 requirements set forth in 8 CFR 235.1(h) and who exit the United States within the pilot period are eligible to participate in the pilot.

As this pilot is voluntary, CBP will continue to employ the current entry-exit processes described above that do not include the use of the CBP Home app for all travelers, including travelers who choose to participate in the pilot program.¹⁵ Facial images collected during this pilot will be used to confirm biometrically the exits of participating travelers from the United States. A notation that the traveler was biometrically confirmed will become part of the pilot participant's official border-crossing record. However, facial images collected during this pilot will only be kept for one year after completion of the pilot and for analytical purposes only.¹⁶

¹⁵ CBP obtains departure information for certain travelers depending on mode of transportation. For example, for commercial air travelers, CBP would receive traveler information from the airline. However, in the case of land, as noted previously, CBP does not typically obtain any departure information. Therefore, for pilot participants exiting at land ports of entry, it is possible that CBP would only receive exit information from the traveler's voluntary submission using the CBP Home app.

¹⁶ If any voluntary participants in this pilot discover any problems or issues with their official border- crossing record, they may seek redress through Department of Homeland Security's Travel Redress Inquiry Program (DHS TRIP). See DHS, Traveler Redress Inquiry Program (DHS TRIP), http://www.dhs.gov/trip (last accessed Feb. 27, 2024).

During this pilot, as well as with the normal process, if a traveler's stay exceeds the period of admission or parole as determined through the regular entry and exit process, the traveler may be subject to grounds of inadmissibility outlined in section 212 of the INA (8 U.S.C. 1182). CBP will use the VSRE reporting to help reconcile an exit event with the original arrival event. The VSRE exit event, recorded in the Arrival and Departure Information System (ADIS) ¹⁷ maintained by CBP, will be recorded as a departure. In a case where the CBP Home app malfunctions or fails to complete the process and the VSRE exit event is not recorded properly, the departure record will not be sent or recorded by CBP. Additionally, the CBP Home app will display an error message requesting that the user try to report the exit using the CBP Home app again at a later time and directing the user to www.i94.gov for more information.¹⁸

¹⁷ See DHS, DHS/CBP/PIA-024, Privacy Impact Assessment for the Arrival and Departure Information System (2020), available at https://www.dhs.gov/publication/arrival-and-departure-information-system (last visited Feb. 27, 2024).

¹⁸ CBP will retain error data for one year after collection for analytical purposes.

The app will alert the user that reporting an exit after the traveler's authorized length of stay could result in an incorrectly reported overstay on the user's record; therefore, in those cases, CBP recommends the user not report their exit using the CBP Home app. The user would then either report or not report their exit pursuant to the normal processes. In the event of a CBP Home app error resulting in no reported exit, CBP will not record the departure until CBP receives records from CBSA or until the traveler attempts to reenter the United States at a later date.¹⁹ As noted above, CBP does not currently have an effective method to record traveler exits at land border ports of entry. Therefore, if a voluntary participant is unable to report the participant's exit through the CBP Home app as part of this pilot, the person is in the same position as the person would be if the person chose not to participate in the pilot at all. Inability to use the app or not participating in this pilot program to self-report exit does not create any adverse consequences for alien travelers.

¹⁹ Aliens can generally provide proof of previous departure when attempting to reenter the United States through travel receipts, passport stamps, or other documentation or information accepted at the discretion of the CBP Officer.

Use of Facial Images and Other Data Collected During the VSRE Pilot

CBP will use facial verification technology to compare a live image (“selfie”) submitted by the participant via the CBP Home app with the photos and biographical information from travelers' document(s) ²⁰ that the agency already stores. The CBP Home app will attempt to match the captured images with travel document source photos of the traveler stored by the agency.²¹ CBP will temporarily store all facial images captured during this pilot, as well as previously collected traveler and associated document data for one year from the date of collection. CBP will also store liveness information and geolocation information in a secure, standalone database for one year from the date of collection in order to analyze the liveness detection and geolocation capabilities of the technology. CBP will not distribute any biometric data from the standalone database, except for analysis and reporting purposes on the results of the pilot. Data saved for analytical purposes will not contain any personally identifiable information. The traveler's biographic and validated departure date is sent to TECS and ADIS and will be retained according to those system's retention policy.

²⁰ Traveler documents include but are not limited to passports, visas, and trusted traveler radio-frequency identification (RFID) cards such as Border Crossing Cards, Enhanced Driver's Licenses, passport cards, and tribal cards. See 8 CFR 212.1 and 235.1 for complete travel document requirements. Alternatively, an alien can provide their alien registration number.

²¹ As noted above, if the attempt to match the facial image fails, the CBP Home app will alert the user to try again later.

Eligible Participants

Participation in the pilot is voluntary. All aliens in possession of an I-94, exiting the United States may participate by downloading the CBP Home app and providing the required biometrics and other information to CBP. Individuals who choose not to participate should use the current I-94 exit process.

Duration of Pilot

This voluntary pilot will begin on March 19, 2025 and will run for two years. Any extensions of this pilot program will be announced by a notice published in the Federal Register.²²

²² TECS is the principal system used by officers at the border to assist with screening and determinations regarding admissibility of arriving persons.

Analysis of Results

CBP will retain the liveness detection results and the selfie photograph from participants for one year after the completion of the pilot. CBP will store the liveness detection results and the selfie in a secure CBP database for analytical purposes. CBP will retain the geolocation information data provided by pilot participants through the CBP Home app in the CBP I-94/Exit database for one year after completion of the pilot and will use the data for analytical purposes only.

CBP will analyze the results of this pilot to assess the operational feasibility of using facial verification and geolocation to confirm the exit of aliens subject to I-94 requirements. CBP will evaluate the pilot based on several criteria, including:

• the technology's user-friendliness;

• the technology's vulnerabilities with regard to “liveness detection” (whether the technology can correctly determine if the photo taken by the user is a live photo as opposed to a previously uploaded photo); and

• the technology's vulnerabilities with regard to geolocation (whether the technology can correctly determine whether a person is at least three miles outside of the United States at the time the photo is taken and the exit information is submitted to CBP through the CBP Home app).

Privacy

CBP will ensure that all Privacy Act requirements and applicable DHS privacy policies are adhered to during this pilot.²³ CBP will issue a Privacy Impact Assessment (PIA) Appendix update to the DHS/CBP/PIA-068 CBP Home Mobile Application to provide transparency on the use of the CBP Home mobile application to self-report a departure from the United States.²⁴ CBP will ensure compliance with Privacy Act protections and DHS privacy policies, including DHS's Fair Information Practice Principles (FIPPs). The FIPPs account for the nature and purpose of the information being collected in relation to DHS's mission to preserve, protect and secure the United States. The PIA addresses issues such as the security, integrity, and sharing of data, use limitation and transparency.

²³ See 8 U.S.C. 552a and https://www.dhs.gov/privacy-policy-guidance (last visited March 3, 2025).

²⁴ DHS/CBP/PIA -068 and related appendices are available at https://www.dhs.gov/publication/dhscbppia-068-cbp-one-mobile-application (last visited March 4, 2025).

CBP has also issued System of Records Notices (SORN(s)) that fully encompass all the data that will be collected for the purposes of this pilot, including: DHS/CBP-007 Border Crossing Information (BCI) System of Records, 81 FR 89957 (Dec. 13, 2016); DHS/CBP-021 Arrival and Departure Information System (ADIS), 80 FR 72081 (Nov. 8, 2015); and DHS/CBP-016 Nonimmigrant Information System, 80 FR 13398 (Mar. 13, 2015).²⁵

²⁵ All of these SORNs are available at https://www.dhs.gov/system-records-notices-sorns (last visited Feb. 27, 2024).

Paperwork Reduction Act

The Paperwork Reduction Act (PRA) of 1995 (44 U.S.C. 3507(d)) requires that CBP consider the impact of paperwork and other information collection burdens imposed on the public. An agency may not conduct, and a person is not required to respond to, a collection of information unless the collection of information displays a valid control number assigned by the Office of Management and Budget. This information collection is covered by OMB control numbers 1651-0111 and 1651-0138. These information collections have been updated to include information collected by CBP pursuant to this notice.

Signing Authority

Pete Flores, Acting Commissioner, having reviewed and approved this document, has delegated the authority to electronically sign this document to the Director of the Regulations and Disclosure Law Division for CBP, for purposes of publication in the Federal Register.

Robert F. Altneu,
Director, Regulations & Disclosure Law Division, Regulations & Rulings, Office of Trade, U.S. Customs and Border Protection.

[FR Doc. 2025-04731 Filed 3-18-25; 8:45 am]

BILLING CODE 9111-14-P